DEPARTMENT OF AGRICULTURE

Forest Service

Sequoia National Forest, California; Sequoia National Forest Public Wheeled Motorized Travel Management EIS

AGENCY: Forest Service, USDA.

ACTION: Notice of intent to prepare an environmental impact statement.

SUMMARY: The Sequoia National Forest will prepare an environmental impact statement (EIS) to disclose the impacts associated with the following proposed actions:

1. The addition of approximately 71 miles of existing unauthorized routes to the National Forest System (NFS) of motorized trails, open to wheeled motorized vehicle use by the public.

2. The addition of approximately 0.9 miles of existing unauthorized routes to NFS roads, open to all wheeled motorized vehicle use by the public.

3. The change of approximately 21.8 miles of existing NFS roads, currently closed to public wheeled motorized vehicle use, to NFS motorized trails, open to wheeled motorized vehicle use by the public.

4. The change of approximately 8.4 miles of existing NFS roads, currently open to public wheeled motorized vehicle use, to NFS motorized trails, open to all wheeled motorized vehicle use by the public.

5. The change of approximately 23.2 miles of existing NFS roads, currently closed to public wheeled motorized vehicle use, to NFS roads, open to all wheeled motorized vehicle use by the public.

6. The change of approximately 19.5 miles of existing NFS roads, currently open to wheeled motorized vehicle use by the public, to closed NFS roads.

7. The change of approximately 12.4 miles of existing NFS roads, currently open to public use by highway legal vehicles only, to NFS roads, open to all wheeled motorized vehicle use by the public.

8. The change of approximately 0.5 miles of existing NFS road, currently open to highway legal vehicles only, to NFS motorized trail, open to wheeled motorized vehicle use by the public.

9. The continuation of wheeled motorized vehicle use by the public on the NFS trail north of Dry Meadow and amendment of the Sequoia National Forest Land and Resource Management Plan to change approximately 5,500 acres of semi-primitive non-motorized (SPNM) to semi-primitive motorized (SPM), to conform with motorized vehicle use of the trail.

10. The prohibition of wheeled motorized vehicle travel off of designated NFS roads, NFS trails, and areas by the public, except as allowed by permit or other authorization.

DATES: The comment period on the proposed action will extend 30 days from the date the notice of intent is published in the Federal Register Completion of the draft EIS is expected in September 2007, and the final EIS is expected in September 2008.

ADDRESSES: Send written comments to: Chris Sanders, Travel Management, Sequoia National Forest, 1839 South Newcomb Street, Porterville, CA 93257. The phone number is (559) 784-1500.

FOR FURTHER INFORMATION CONTACT: Chris Sanders at the address listed above.

SUPPLEMENTARY INFORMATION:

Background

Over the past few decades, the availability and capability of motorized vehicles, particularly off-highway vehicles (OHVs) and sport utility vehicles (SUVs) has increased tremendously. Nationally, the number of OHV users has climbed sevenfold in the past 30 years, from approximately 5 million in 1972 to 36 million in 2000. California is experiencing the highest level of OHV use of any state in the nation. There were 786,914 ATVs and OHV motorcycles registered in 2004, up 330% since 1980. Annual sales of ATVs and OHV motorcycles in California were the highest in the U.S. for the last 5 years. Four-wheel drive vehicle sales in California increased by 1500% to 3,046,866 from 1989 to 2002.

Unmanaged OHV use has resulted in unplanned roads and trails, erosion, watershed and habitat degradation, and impacts to cultural resource sites. Compaction and erosion are the primary effects of OHV use on soils. Riparian areas and aquatic dependent species are particularly vulnerable to OHV use. Unmanaged recreation, including impacts from OHVs, is one of “Four Key Threats Facing the Nation's Forests and Grasslands” (USDA Forest Service, June 2004).

On August 11, 2003, the Pacific Southwest Region of the Forest Service entered into a Memorandum of Intent (MOI) with the California Off-Highway Motor Vehicle Recreation Commission and the Off-Highway Motor Vehicle Recreation Division of the California Department of Parks and Recreation. That MOI set in motion a regionwide effort to “Designate OHV roads, trails, and any specifically defined open areas for motorized wheeled vehicles on maps of the 19 National Forests in California by 2007.” On November 9, 2005, the Forest Service published final travel management regulations in the Federal Register (FR Vol. 70. 216—Nov. 9, 2005, pp 68264-68291). This final Travel Management Rule requires designation of those roads, trails, and areas that are open to motor vehicle use on National Forest System (NFS) lands. Designations will be made by class of vehicle and, if appropriate, by time of year. The final rule prohibits the use of motor vehicles off the designated system, as well as use of motor vehicles on routes and in areas that are not consistent with the designations.

On some NFS lands, long managed as open to cross-country motor vehicle travel, repeated use has resulted in unplanned, unauthorized roads and trails. These routes generally developed without environmental analysis or public involvement and do not have the same status as NFS roads and NFS trails included in the forest transportation system. Nevertheless, some unauthorized routes are well sited, provide excellent opportunities for outdoor recreation by motorized and non-motorized users, and would enhance the National Forest System of designated roads, trails, and areas. Other unauthorized routes are poorly located and cause unacceptable impacts. Only NFS roads and NFS trails can be designated for wheeled motorized vehicle use. In order for an unauthorized route to be designated, it must first be added to the forest transportation system.

The Sequoia National Forest is not proposing changes to the existing designated route systems in the Hume Lake and Tule River Ranger Districts, the portion of the Hot Springs Ranger District within the Giant Sequoia National Monument, or on the Kern Plateau at this time. Wheeled motorized vehicle use in these areas is already restricted to an existing designated system of routes.

In 2004, the Sequoia National Forest completed in inventory of unauthorized routes, as described in the MOI, on NFS lands in the Kern River Ranger District and the Hot Springs Ranger District, outside of the Giant Sequoia National Monument, and identified approximately 582.4 miles of unauthorized routes. The Sequoia then used an interdisciplinary process to conduct travel analysis that included working the public to determine whether any of the unauthorized routes should be proposed for addition to the transportation system. Roads, trails, and areas that are currently part of the Sequoia transportation system and are open to wheeled motorized vehicle travel will remain designated for such use, except as described below under the Proposed Action. This proposal focuses only on the prohibition of wheeled motorized vehicle travel off designated routes and needed changes to the Sequoia transportation system, including the addition of some user-created routes to the Sequoia transportation system and other changes to existing motor vehicle restrictions. The proposed action is being carried forward in accordance with the Travel Management Rule (36 CFR Part 212).

In accordance with the rule, following a decision on this proposal, the Sequoia National Forest will publish a Motor Vehicle Use Map (MVUM), identifying all Sequoia roads, trails, and areas that are designated for motor vehicle use. The MVUM shall specify the classes of vehicles and, if appropriate, the times of year for which use is designated.

A Mediated Settlement Agreement (MSA) was signed in 1990, which resolved multiple appeals of the 1988 forest plan. Pages 99-101 of the MSA discuss management of the trail north of Dry Meadows. “If a trail that can accommodate OHV use can be located through the area, the SPNM boundary shall be adjusted accordingly.”

Purpose and Need for Action

The following needs have been identified for this proposal:

1. There is a need for regulation of unmanaged wheeled motorized vehicle travel by the public. Currently, wheeled motorized vehicle travel by the public is not prohibited off designated routes in the Kern River Ranger District and the Hot Springs Ranger District, outside of the Giant Sequoia National Monument (except by forest order). In their enjoyment of the national forest, motorized vehicle users have created numerous unauthorized routes. The number of such routes has continued to grow each year, with many routes having environmental impacts and safety concerns that have not been addressed. The Travel Management Rule, 36 CFR Part 212, provides policy for ending this trend of unauthorized route proliferation and managing the forest transportation system in a sustainable manner, through designation of motorized NFS roads, trails, and areas, and the prohibition of cross-country travel.

2. There is a need for limited changes and additions to the Sequoia National Forest transportation system to:

2.1. Provide wheeled motorized access to recreation opportunities (camping, hunting, fishing, hiking, horseback riding, etc.).

2.2. Provide a diversity of wheeled motorized recreation opportunities (4 x 4 vehicles, motorcycles, ATVs, passenger vehicles, etc.).

2.3. As obligated by the 1990 Mediated Settlement Agreement (MSA), to the Sequoia National Forest Land and Resource Management Plan to consider whether the trail north of Dry Meadows should continue to be managed for wheeled motorized use (MSA, pages 99-101). Under the Sequoia Land and Resource Management Plan the trail north of Dry Meadows runs through a semi-primitive non-motorized (SPNM) area.

It is Forest Service policy to provide a diversity of road and trail opportunities for experiencing a variety of environments and modes of travel consistent with the national forest recreation role and land capability [FSM 2353.03(2)].

In meeting these needs the proposed action must also achieve the following purposes:

A. Avoid impacts to cultural resources.

B. Provide for public safety.

C. Provide for a diversity of recreational opportunities.

D. Assure adequate access to public and private lands.

E. Provide for adequate maintenance and administration of designations based on availability of resources and funding to do so.

F. Minimize damage to soil, vegetation, and other forest resources.

G. Avoid harassment of wildlife and significant disruption of wildlife habitat.

H. Minimize conflicts between wheeled motor vehicles and existing or proposed recreational uses of NFS lands.

I. Minimize conflicts among different classes of wheeled motor vehicle uses of NFS lands or neighboring federal lands.

J. Assure compatibility of wheeled motor vehicle use with existing conditions in populated areas, taking into account sound, emissions, etc.

K. Have valid existing rights of use and access (rights-of-way).

Proposed Action

Based on the stated purpose and need for action, and as a result of the recent travel analysis process, the Sequoia proposes the following changes to the current transportation system.

1. The addition of approximately 71 miles of existing unauthorized routes to the National Forest System (NFS) of motorized trails, open to wheeled motorized vehicle use by the public.

2. The addition of approximately 0.9 miles of existing unauthorized routes to NFS roads, open to all wheeled motorized vehicle use by the public.

3. The change of approximately 21.8 miles of existing NFS roads, currently closed to public wheeled motorized vehicle use, to NFS motorized trails, open to wheeled motorized vehicle use by the public.

4. The change or approximately 8.4 miles of existing NFS roads, currently open to public wheeled motorized vehicle use, to NFS motorized trails, open to wheeled motorized vehicle use by the public.

5. The change of approximately 23.2 miles of existing NFS roads, currently closed to public wheeled motorized vehicle use, to NFS roads, open to all wheeled motorized vehicle use by the public.

6. The change of approximately 19.5 miles of existing NFS roads, currently open to wheeled motorized vehicle use by the public, to closed NFS roads.

7. The change of approximately 12.4 miles of existing NFS roads, currently open to public use by highway legal vehicles only, to NFS roads, open to all wheeled motorized vehicle use by the public.

8. The change of approximately 0.5 mile of existing NFS road, currently open to highway legal vehicles, to NFS motorized trail, open to wheeled motorized vehicle use by the public.

9. The continuation of wheeled motorized vehicle use by the public on the NFS trail north of Dry Meadow and amendment of the Sequoia National Forest Land and Resource Management Plan to change approximately 5,500 acres of semi-primitive non-motorized (SPNM) to semi-primitive motorized (SPM), to conform with motorized vehicle use of the trail.

10. The prohibition of wheeled motorized vehicle travel off of designated NFS roads, NFS trails, and areas by the public, except as allowed by permit or other authorization.

Maps and tables describing in detail both the existing Sequoia National Forest transportation system and the proposed action can be found at http://www.fs.fed.us/r5/sequoia/. In addition, maps will be available for viewing at: Supervisor's Office, 1839 South Newcomb Street, Porterville, CA 93757; Kern River Ranger District, 105 Whitney Road, Kernville, CA 93238.

Responsible Official

The Responsible Official is Tina J. Terrell, Forest Supervisor, Sequoia National Forest, 1839 South Newcomb Street, Porterville, CA 93257.

Nature of Decision To Be Made

The responsible official will decide whether to adopt and implement the proposed action, an alternative to the proposed action, or take no action to make changes to the existing Sequoia National Forest transportation system, amend the Forest Plan, or prohibit cross-country wheeled motorized vehicle travel by the public off the designated system. Once the decision is made, the Sequoia National Forest will publish a Motor Vehicle Use Map (MVUM), identifying the roads, trails, and areas that are designated for motor vehicle use. The MVUM shall specify the classes of vehicles and, if appropriate, the times of year for which use is designated.

Scoping Process

Public participation will be especially important at several points during the analysis. The Forest Service will be seeking information, comments, and assistance from federal, state, and local agencies and other individuals or organizations interested in or affected by the proposed action.

The Notice of Intent is expected to be published in the Federal Register on June 15, 2007. The comment period on the proposed action will extend 30 days from the date the Notice of Intent is published in the Federal Register.

The draft environmental impact statement is expected to be filed with the Environmental Protection Agency (EPA) and to be available for public review by September 2007. EPA will publish a notice of availability of the draft EIS in the Federal Register. The comment period on the draft EIS will extend 45 days from the date the EPA notice appears in the Federal Register. At that time, copies of the draft EIS will be distributed to interested and affected agencies, organizations, and members of the public for their review and comment. It is very important that those interested in the management of the Sequoia National Forest participate at that time.

The final EIS is scheduled to be completed in September 2008. In the final EIS, the Forest Service is required to respond to substantive comments received during the comment period that pertain to the environmental consequences discussed in the draft EIS and applicable laws, regulations, and policies considered in making the decision. Substantive comments are defined as “comments within the scope of the proposed action, specific to the proposed action, and have a direct relationship to the proposed action, and include supporting reasons for the responsible official to consider” (36 CFR 215.2). Submission of substantive comments is a prerequisite for eligibility to appeal under the 36 CFR part 215 regulations.

Comment Requested

This notice of intent initiates the scoping process, which guides the development of the environmental impact statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage, but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period, so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft environmental impact statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: June 1, 2007.
Tina J. Terrell,
Forest Supervisor, Sequoia National Forest.

[FR Doc. 07-2841 Filed 6-14-07; 8:45 am]

BILLING CODE 3410-11-M